DEPARTMENT OF THE INTERIOR

Bureau of Land Management

[NV-050-5853-ES; N-82255 and N-84469; 8-08807; TAS: 14X5432]

Notice of Realty Action: Classification/Lease/Conveyance for Recreation and Public Purposes Act of Public Lands in Clark County, NV

AGENCY: Bureau of Land Management, Interior.

ACTION: Notice.

SUMMARY: The Bureau of Land Management (BLM) has examined and found suitable for classification for lease and subsequent conveyance under the provisions of the Recreation and Public Purposes (R&PP) Act, as amended, approximately 8.75 acres of public land in Clark County, Nevada. The St. Matthews Baptist Church proposes to use 5 acres of the land for a church, parking area, adult day care, athletic field, children's play area, landscaping, and related facilities. The Solid Rock Christian Church proposes to use 3.75 acres of the land for a house of worship, community learning/not-for-profit day care center, parking, and related facilities. The proposals by these two churches are distinguished as two distinct actions in this notice.

DATES: Interested parties may submit written comments regarding the proposed lease/conveyance or classification of the lands until June 20, 2008.

ADDRESSES: Mail written comments to the BLM Field Manager, Las Vegas Field Office, 4701 N. Torrey Pines Drive, Las Vegas, NV 89130.

FOR FURTHER INFORMATION CONTACT: Brenda Warner, (702) 515-5084.

SUPPLEMENTARY INFORMATION: In accordance with Section 7 of the Taylor Grazing Act, (43 U.S.C. 315f), and Executive Order No. 6910, the following described public land in Clark County, Nevada, has been examined and found suitable for classification for lease and subsequent conveyance under the provisions of the R&PP Act, as amended, (43 U.S.C. 869 et seq.):

Case File Number N-82255—St. Matthews Baptist Church

Mount Diablo Meridian, Nevada

T. 23 S., R. 61 E.,

Sec. 10, N½NW¼SW¼SW¼.

Containing 5 acres, more or less.

In accordance with the R&PP Act, the St. Matthews Baptist Church filed an application for the above described 5 acres of land to be developed as a church. The proposed church and related facilities include a 5,000 square foot sanctuary building (offices, classrooms, interior and exterior kitchen (barbecue area), restrooms, utility/storage rooms, and a lobby), septic field and well, sidewalks, landscaped areas, paved parking areas, adult day care, youth athletic fields, children's play area, and walking paths with rest and meditation areas. Construction of the facilities will take approximately five years or less and will begin shortly after the lease is authorized. Additional detailed information pertaining to this application, plan of development, and site plan is in case file N-82255 located in the BLM Las Vegas Field Office at the above address.

Case File Number N-84469—Solid Rock Christian Church

Mount Diablo Meridian, Nevada

T. 22 S., R. 61 E.,

Sec. 14, W½NW¼SW¼SW¼SE¼ and SW¼SW¼SW¼SE¼.

Containing 3.75 acres, more or less.

In accordance with the R&PP Act, the Solid Rock Christian Church filed an application for the above described 3.75 acres of land to be developed as a church. The proposed church and related facilities include a 15,000 square foot sanctuary building, community learning/not-for-profit day-care center, parking areas, and related facilities. Construction of the facilities will take approximately three years or less and will begin shortly after the lease is authorized. Additional detailed information pertaining to this application, plan of development, and site plan is in case file N-84469 located in the BLM Las Vegas Field Office at the above address.

Churches are a common applicant under the public purposes provision of the R&PP Act. The St. Matthews Baptist Church and the Solid Rock Christian Church are Internal Revenue Service registered non-profit organizations and are qualified applicants under the R&PP Act.

The land is not needed for any Federal purpose. The lease/conveyance of both cases is consistent with the Las Vegas Resource Management Plan, dated October 5, 1998, and would be in the public interest. The lease/conveyance of both cases, when issued, will be subject to the provisions of the R&PP Act and applicable regulations of the Secretary of the Interior, and will contain the following reservations to the United States:

1. A right-of-way thereon for ditches or canals constructed by the authority of the United States, Act of August 30, 1890 (43 U.S.C. 945); and

2. All minerals, together with the right to prospect for, mine, and remove such deposits from the same under applicable law and such regulations as the Secretary of the Interior may prescribe.

The lease/conveyance of N-82255 will also be subject to:

1. Valid existing rights; and

2. Right-of-way N-77148 for road, drainage, and municipal facility purposes granted to the City of Henderson, its successors or assigns, pursuant to the Act of October 21, 1976 (43 U.S.C. 1761).

The lease/conveyance of N-84469 will also be subject to:

1. Valid existing rights;

2. Rights-of-way N-06486 and N-79652 for communication facility purposes granted to the Central Telephone Company, its successors or assigns, pursuant to the Act of October 21, 1976 (43 U.S.C. 1761); and

5. Right-of-way N-50183 for road and drainage purposes granted to Clark County, its successors or assigns, pursuant to the Act of October 21, 1976 (43 U.S.C. 1761).

On May 6, 2008, the land described above will be segregated from all other forms of appropriation under the public land laws, including the general mining laws, except for lease/conveyance under the R&PP Act, leasing under the mineral leasing laws, and disposals under the mineral material disposal laws.

Interested parties may submit comments involving the suitability of the land for churches and related facilities. Comments on the classification are restricted to whether the land is physically suited for the proposals, whether the use will maximize the future use or uses of the land, whether the use is consistent with local planning and zoning, or if the use is consistent with State and Federal programs.

Interested parties may submit comments regarding each proposed decisions for the two R&PP applications and plans of development, whether the BLM followed proper administrative procedures in reaching the decision to lease/convey under the R&PP Act, or any other factor not directly related to the suitability of the land for R&PP use.

Please be specific as to which of these two proposals is the subject of any comments submitted; St. Matthews Baptist Church and the Solid Rock Christian Church are considered two distinct authorizations under the R&PP Act.

Before including your address, phone number, e-mail address, or other personal identifying information in your comment, you should be aware that your entire comment—including your personal identifying information—may be made publicly available at any time. While you can ask us in your comment to withhold your personal identifying information from public review, we cannot guarantee that we will be able to do so.

Only written comments submitted by postal service or overnight mail to the Field Manager, BLM Las Vegas Field Office, will be considered properly filed. Electronic mail, facsimile, or telephone comments will not be considered properly filed. Comments, including names and addresses of respondents, will be available for public review. Before including your address, telephone number, e-mail address, or other personal identifying information in your comment, be advised that your entire comment—including your personal identifying information—may be made publicly available at any time. While you can ask us in your comment to withhold your personal identifying information from public review, we cannot guarantee that we will be able to do so.

Any adverse comments will be reviewed by the BLM Nevada State Director. In the absence of any adverse comments, the classification of the land described in this notice will become effective on July 7, 2008. The lands will not be available for lease/conveyance until after the classification becomes effective.

Authority: 43 CFR 2741.5.

Dated: April 18, 2008.
Kimber Liebhauser,
Assistant Las Vegas Field Manager, Division of Lands.

[FR Doc. E8-9932 Filed 5-5-08; 8:45 am]

BILLING CODE 4310-HC-P